INTERNATIONAL TRADE COMMISSION

[Investigation No. 337-TA-648]

In the Matter of Certain Semiconductor Integration Circuits Using Tungsten Metallization and Products Containing Same; Notice of Commission Decision Not To Review an Initial Determination Granting Motion To Amend the Complaint and Notice of Investigation

AGENCY: U.S. International Trade Commission.

ACTION: Notice.

SUMMARY: Notice is hereby given that the U.S. International Trade Commission has determined not to review an initial determination (“ID”) (Order No. 13) of the presiding administrative law judge (“ALJ”) granting a joint motion to amend the complaint and the notice of investigation in the above-captioned investigation.

FOR FURTHER INFORMATION CONTACT: Clint Gerdine, Esq., Office of the General Counsel, U.S. International Trade Commission, 500 E Street, SW., Washington, DC 20436, telephone (202) 708-2310. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 21, 2008 based on a complaint filed on April 18, 2008 by LSI Corporation of Milpitas, California and Agere Systems Inc. of Allentown, Pennsylvania. 73 FR 29534-35 (May 21, 2008). The complaint alleges violations of section 337 of the Tariff Act of 1930, as amended, 19 U.S.C. 1337, in the importation into the United States, the sale for importation, and the sale within the United States after importation of certain semiconductor integrated circuits using tungsten metallization and products containing same by reason of infringement of claim 1 of U.S. Patent No. 5,227,335. The complaint named numerous respondents including NXP B.V. of the Netherlands and Micronas Semiconductor Holding AG (“Micronas AG”) of Switzerland. The complaint further alleged that an industry in the United States exists as required by subsection (a)(2) of section 337.

On September 2, 2008, the Commission issued notice of its determination not to review an ID granting the motion of complainants, NXP B.V. and proposed respondent NXP Semiconductors USA, Inc. (“NXP Semiconductors”) of San Jose, California to amend the complaint and notice of investigation to substitute NXP Semiconductors for NXP B.V. 73 FR 52064-65 (Sept. 9, 2008).

On July 23, 2008, complainants, Micronas AG, and proposed respondent Micronas GmbH of Germany moved to amend the complaint and notice of investigation to substitute Micronas GmbH for Micronas AG. No party opposed the motion.

On September 17, 2008, the ALJ issued the subject ID granting the joint motion to amend. No party petitioned for review of the ID. The Commission has determined not to review this ID.

The authority for the Commission's determination is contained in section 337 of the Tariff Act of 1930, as amended, 19 U.S.C. 1337, and in sections 210.14 and 210.42(c) of the Commission's Rules of Practice and Procedure, 19 CFR 210.14, 210.42(c).

Issued: October 8, 2008
By order of the Commission.
Marilyn R. Abbott,
Secretary to the Commission.

[FR Doc. E8-24555 Filed 10-14-08; 8:45 am]

BILLING CODE 7020-02-P